DEPARTMENT OF JUSTICE

Antitrust Division

Notice Pursuant to the National Cooperative Research and Production Act of 1993—DVD Copy Control Association

Notice is hereby given that, on March 10, 2010, pursuant to Section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, Chongqing Xugang Electronic Co., Ltd., Jiangbei, Chongqing, PEOPLE'S REPUBLIC OF CHINA; Huizhou Aihua Multimedia Co., Ltd., Huizhou, Guangdong, PEOPLE'S REPUBLIC OF CHINA; digiCon AG, Kornwestheim, GERMANY; Mimeos V0F, Baarlo Noord Limburg, THE NETHERLANDS; MIT Technology Co., Ltd., Dongguan, Guangdong, PEOPLE'S REPUBLIC OF CHINA; ShenZhen Sea Star Technology Co., Ltd., Longhua Town, Baoan, Shenzhen, PEOPLE'S REPUBLIC OF CHINA; and Yuban & Co., Nan-Kang, Taipei, TAIWAN, have been added as parties to this venture.

Also, ATI Technologies, Inc., Unionville, Ontario, CANADA; Axiom Technologies Mfg Pte Ltd., Singapore, SINGAPORE; DOCdata media b.v., Tilburg, THE NETHERLANDS; Mattel Inc., El Segundo, CA; nVidia Corporation, Santa Clara, CA; OPT Corporation, Tokyo, JAPAN; Seagate Technology LLC, Longmont, CO; Tonic Electronics Limited, Kowloon, HONG KONG-CHINA; and Toppan Printing Co., Ltd., Tokyo, JAPAN, have withdrawn as parties to this venture. In addition, Mediachain Co., Ltd. has changed its name to SD RAY Co., Ltd., Hwasung-Si, Kyounggi-do, REPUBLIC OF KOREA.

No other changes have been made in either the membership or planned activity of the group research project. Membership in this group research project remains open, and DVD CCA intends to file additional written notifications disclosing all changes in membership.

On April 11, 2001, DVD CCA filed its original notification pursuant to Section 6(a) of the Act. The Department of Justice published a notice in the Federal Register pursuant to Section 6(b) of the Act on August 3, 2001 (66 FR 40727).

The last notification was filed with the Department on December 3, 2009. A notice was published in the Federal Register pursuant to Section 6(b) of the Act on January 19, 2010 (75 FR 2890).

Patricia A. Brink,
Deputy Director of Operations, Antitrust Division.

[FR Doc. 2010-10464 Filed 5-6-10; 8:45 am]

BILLING CODE 4410-11-M